DEPARTMENT OF HEALTH AND HUMAN SERVICES

Administration for Children and Families

Statement of Mission, Organization, Functions, and Delegations of Authority

This notice amends Part K of the Statement of Mission, Organization, Functions, and Delegations of Authority of the Department of Health and Human Services (HHS), Administration for Children and Families (ACF), as follows: Chapter KE, Administration for Native Americans (ANA), as last amended in 60 FR 17084-85, 04/04/95. This notice establishes the Division of Policy, Planning and Evaluation and moves the support staff function to the Office of the Commissioner. The changes are as follows:

I. Chapter KE. Administration for Native Americans

A. Delete KE. 00 Mission in its entirety and replace with the following:

KE. 00 Mission. The mission of the Administration for Native Americans is to promote the goal of self-sufficiency and cultural preservation for Native Americans by providing social and economic development opportunities through financial assistance, training, and technical assistance to eligible Tribes and Native American communities, including American Indians, Alaska Natives, Native Hawaiians, and other Native Pacific Islander organizations. ANA provides funding for community-based projects that are designed to improve the lives of Native children and families and reduce long-term dependency on public assistance. Competitive funding authorized under the Native American Programs Act of 1974, as amended, for community-based projects is provided through three competitive discretionary grant programs to eligible Tribes and non-profit Native American organizations: Social and economic development, language preservation, and environmental regulatory enhancement.

B. Delete KE. 10 Organization in its entirety and replace with the following:

KE.10 Organization. The Administration for Native Americans is headed by a Commissioner who is confirmed by the Senate and reports directly to the Assistant Secretary for Children and Families.

The ANA organization includes the: Office of the Commissioner (KEA); Intra-Departmental Council on Native American Affairs (KEB); Division of Program Operations (KEC); Division of Policy, Planning and Evaluation (KED).

C. Delete KE.20 Functions in its entirety and replace with the following:

KE. 20 Functions

A. The Office of the Commissioner provides executive leadership and management strategies for all components of ANA. As required by statute, the Commissioner is Chair of the Intra-Departmental Council on Native American Affairs and advises the Secretary on all matters affecting Native Americans that involve the Department. The Commissioner serves as an effective and visible advocate on behalf of Native Americans within the Department, and with other departments and agencies of the Federal Government regarding all Federal policies affecting Native Americans. The Commissioner provides policy direction and guidance to ACF Regional Offices with respect to programs for Urban Indians, off-Reservation Indians, and other Native American projects in Hawaii and the Pacific Islands. The Commissioner oversees the Native Hawaiian Revolving Loan Fund administered by the Office of Hawaiian Affairs. In the absence of the Commissioner, the Deputy Commissioner is responsible for all organizational management.

The Management Operations Staff (MOS) is responsible for ANA Budget and Administrative functions. MOS coordinates ANA budget activities, the ANA funding decision memo, data collection, personnel actions, ANA's electronic library, tracking of required grant reports, and oversees contract expenditures. The staff members control the flow of correspondence, including receipt of and response to Freedom of Information Act requests.

B. The Commissioner is the Chair of the Intra-Departmental Council on Native American Affairs (ICNAA) and advises the Secretary on Native American issues. ICNAA staff members provide support to the Commissioner. ICNAA develops and promotes HHS policy to provide greater access and quality services for American Indians, Alaska Natives, and Native Americans (AI/AN/NAs) throughout the Department and where possible, the Federal Government; promotes implementation of HHS policy and agency plans on consultation with AI/AN/NAs and Tribal Governments; identifies and develops legislative, administrative, and regulatory proposals that promotes an effective, meaningful AI/AN/NA policy to improve health and human services for AI/AN/NAs; identifies and develops comprehensive Departmental strategy proposal to promote self-sufficiency and self-determination for all AI/AN/NA people; and promotes the Tribal/Federal government-to-government relationship on a Department-wide basis in accordance with Presidential Executive Order.

C. The Division of Program Operations (DPO) is responsible for the administration of discretionary grant programs to eligible Tribes and non-profit Native American organizations. The responsibilities include (1) Annual grant competitions and coordination of the panel review process, (2) development of ANA's Program Announcements, (3) grant oversight, and (4) grant close-out procedures. The DPO also manages and coordinates activities that support the ACF Native American Affairs Workgroup.

D. The Division of Policy, Planning and Evaluation (DPPE) is responsible for development of organizational policies and planning; community impact evaluation; management of quarterly grantee project assessment; oversight of training and technical contracts; coordination of training and technical assistance activities in Alaska, the Pacific Basin, and the lower forty-eight states; development of organizational and Congressional reports; and completion of special organizational studies. In coordination with the Office of Planning, Research and Evaluation, DPPE coordinates ANA's performance goals.

Dated: January 9, 2009.
Daniel C. Schneider,
Acting Assistant Secretary for Children and Families.

[FR Doc. E9-983 Filed 1-15-09; 8:45 am]

BILLING CODE 4184-01-P